DEPARTMENT OF AGRICULTURE

Natural Resources Conservation Service

[Docket No. NRCS-2016-0001]

Notice of Proposed Changes to the National Handbook of Conservation Practices for the Natural Resources Conservation Service

AGENCY: Natural Resources Conservation Service (NRCS), U.S. Department of Agriculture (USDA).

ACTION: Notice of availability of proposed changes to the National Handbook of Conservation Practices for public review and comment.

SUMMARY: Notice is hereby given of the intention of NRCS to issue a series of revised conservation practice standards in the National Handbook of Conservation Practices. These standards include: Clearing and Snagging (Code 326), Diversion (Code 362), Fish Raceway or Tank (Code 398), Pond Sealing or Lining—Compacted Soil Treatment (Code 521B), Pond Sealing or Lining—Concrete (Code 521C), Sediment Basin (Code 350), Silvopasture (Code 381), Tree/Shrub Establishment (Code 612), Vegetated Subsurface Drain Outlet (Code 604), and Waste Storage Facility (Code 313).

NRCS State Conservationists who choose to adopt these practices for use within their States will incorporate them into section IV of their respective electronic Field Office Technical Guide. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective March 4, 2016.

Comment Date: Submit comments on or before April 4, 2016. Final versions of these new or revised conservation practice standards will be adopted after the close of the 30-day period and after consideration of all comments.

ADDRESSES: Comments should be submitted, identified by Docket Number NRCS-2016-0001, using any of the following methods:

• Federal eRulemaking Portal: http://www.regulations.gov. Follow the instructions for submitting comments.

• Mail or hand-delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information, your comments, including personal identifying information (PII), may be available to the public. You may ask in your comment that your PII be withheld from public view, but this cannot be guaranteed.

FOR FURTHER INFORMATION CONTACT: Wayne Bogovich, National Agricultural Engineer, Conservation Engineering Division, U.S. Department of Agriculture, Natural Resources Conservation Service, 1400 Independence Avenue Southwest, South Building, Room 6136, Washington, DC 20250.

Electronic copies of the proposed revised standards are available through http://www.regulations.gov by accessing Docket No. NRCS-2016-0001. Alternatively, copies can be downloaded or printed from the following Web site: http://go.usa.gov/TXye. Requests for paper versions or inquiries may be directed to Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143_026849. To aid in this comparison, following are highlights of some of the proposed revisions to each standard:

Clearing and Snagging (Code 326)—The changes were made to provide better clarity, and include the use of active voice and the removal of all occurrences of the word “shall”. The References section remains unchanged; however, one of the references, NEH Part 654, Stream Restoration Design, now appears in the Considerations section, where it specifically identifies Technical Supplement 14E of this reference for use in determining the forces acting on woody debris and the necessary anchoring.

Diversion (Code 362)—The definition was revised and the purpose modified for clarity. The Criteria, Considerations, and Operations and Maintenance sections were refined and the references were updated.

Fish Raceway or Tank (Code 398)—The purpose was refined, the criteria was modified, and the references were updated. Other changes improved the clarity of the language used in the standard.

Pond Sealing or Lining—Compacted Soil Treatment (Code 521B)—521B Pond Sealing or Lining—Compacted Soil Treatment now combines the existing compacted soil liner standards (521B. 521C & 521D) into one standard code which is now 521B Pond Sealing or Lining—Compacted Soil Treatment. As a result, a change to the title was necessary, along with other changes needed for clarification, consistency, and 508 compliance requirements.

Pond Sealing or Lining—Concrete (Code 521C)—521C Pond Sealing or Lining—Concrete is a new standard developed as an alternative practice for lining and sealing animal waste storage ponds and lagoons as needed. It covers concrete design requirements for this specified function that is not specified in Waste Storage Facility (Code 313).

Sediment Basin (Code 350)—The purpose was refined, the criteria was modified, and the references were updated. Other changes improved the clarity of the language used in the standard.

Silvopasture (Code 381)—The title was changed from “Silvopasture Establishment” to “Silvopasture.” The Definition, Purposes, and Conditions Where Practice Applies sections were refined. Two purposes were removed and three purposes were added. The criteria were adjusted to match the changes in purposes. The Considerations and Operations and Maintenance sections were refined and the references were updated.

Tree/Shrub Establishment (Code 612)—The Purposes and Conditions Where Practice Applies sections were refined. One purpose was added and one purpose removed. The criteria were adjusted to match the changes in purposes. The Considerations, Plans and Specifications, and Operations and Maintenance sections were refined and the references were updated.

Saturated Buffer (Code 604)—This is a new conservation practice standard developed from an existing interim conservation practice standard “Saturated Buffer” (Code 739).

Waste Storage Facility (Code 313)—The document has been revised extensively. Those revisions include modification of structural design requirements to account for changes in accepted concrete and timber design criteria, modification of language for storage requirements to improve clarity, modify language to conform to the Plain Language Act, improvements to the safety criteria, changing the requirement of a staff gauge from optional to required, addition of criteria specific to solid manure stacking facilities, and improvements to the Plans and Specifications, and Operation and Maintenance sections of the standard. The structural design and safety requirements have been revised to reflect changes in accepted design methods. Other changes have been made to improve the clarity of the language used in the standard.

Jason A. Weller,
Chief, Natural Resources Conservation Service.

[FR Doc. 2016-04824 Filed 3-3-16; 8:45 am]

BILLING CODE 3410-16-P